DEPARTMENT OF THE INTERIOR

National Park Service

[NPS-NERO-GATE-29632; PPNEGATEB0, PPMVSCS1Z.Y00000]

Gateway National Recreation Area Fort Hancock 21st Century Advisory Committee

AGENCY: National Park Service, Interior.

ACTION: Notice of reestablishment.

SUMMARY: The Secretary of the Interior is giving notice of reestablishment of the Gateway National Recreation Area Fort Hancock 21st Century Advisory Committee. The Committee provides advice on the development of a specific reuse plan and on matters relating to the future uses of the Fort Hancock Historic Landmark District within the Sandy Hook Unit of Gateway National Recreation Area.

FOR FURTHER INFORMATION CONTACT: Daphne Yun, Acting Public Affairs Officer, Gateway National Recreation Area, 210 New York Avenue, Staten Island, New York 10305, or by telephone (718) 815-3651, or by email daphne_yun@nps.gov.

SUPPLEMENTARY INFORMATION: This notice is published in accordance with Section 9(a)(2) of the Federal Advisory Committee Act of 1972 (Pub. L. 92-463, as amended).

Certification Statement: I hereby certify that the reestablishment of the Gateway National Recreation Area Fort Hancock 21st Century Advisory Committee is necessary and in the public interest in connection with the performance of duties imposed on the Department of the Interior by the National Park Service Organic Act (54 U.S.C. 100101(a) et seq.), and other statutes relating to the administration of the National Park Service.

Dated: November 18, 2020.
David L. Bernhardt,
Secretary of the Interior.

[FR Doc. 2020-26216 Filed 11-25-20; 8:45 am]

BILLING CODE 4312-52-P